DEPARTMENT OF DEFENSE

Office of the Secretary

32 CFR Part 146

RIN 0790-AH73

Compliance of DoD Members, Employees, and Family Members Outside the United States With Court Orders

AGENCY: Department of Defense.

ACTION: Final rule.

SUMMARY: This document removes part 146, “Compliance of DoD Members, Employees, and Family Members Outside the United States With Court Orders” in Title 32 of the Code of Federal Regulations. This part has served the purpose for which it was intended in the CFR and is no longer necessary.

DATES: Effective Date: February 24, 2006.

FOR FURTHER INFORMATION CONTACT: L.M. Bynum, (703) 696-4970.

SUPPLEMENTARY INFORMATION: The DoD Directive 5525.9 has been converted into a DoD Instruction and is available at http://www.dtic.mil/whs/directives/corres/html/552509.htm

List of Subjects in 32 CFR Part 146

Courts, Government employees, Intergovernmental relations, Military personnel.

PART 146—[REMOVED]

Accordingly, by the authority of 10 U.S.C. 301, 32 CFR part 146 is removed.

Dated: February 17, 2006.
L.M. Bynum,
Alternate OSD Federal Register Liaison Officer, Department of Defense.

[FR Doc. 06-1730 Filed 2-23-06; 8:45 am]

BILLING CODE 5001-06-M